DEPARTMENT OF COMMERCE

International Trade Administration

Executive-led Business Development Mission to Kabul, Afghanistan

AGENCY: International Trade Administration, Department of Commerce.

ACTION: Notice.

Mission Description

The United States Department of Commerce's International Trade Administration is organizing a business development trade mission to Kabul, Afghanistan in September 2012. This mission will be led by a Senior Commerce Department official. Targeted sectors include: Construction (including engineering, architecture, transportation and logistics, and infrastructure); mining (including equipment, technology, and services); agribusiness; and information and communications technology. The mission's goal is to help U.S. companies explore long-term business opportunities in Afghanistan and enhance U.S.-Afghan commercial relations by providing U.S. participants with firsthand market information, access to government decision makers as well as one-on-one meetings with business contacts, including potential agents, distributors, and partners, to position themselves to enter or expand their presence in the targeted sectors.

Commercial Setting

The Government of the Islamic Republic of Afghanistan (GIRoA) is taking steps to develop its market economy and increase both domestic and foreign private investment. GIRoA continues to develop legal and administrative regulatory frameworks that will lead to a market more conducive to trade, investment and private sector development. For example, Afghanistan adopted an investment law that allows investments to be 100% foreign-owned. Additionally, on October 28, 2010, Afghanistan and Pakistan signed the Afghanistan Pakistan Transit Trade Agreement (APTTA), allowing Afghan container trucks to drive through Pakistan to the Indian border, and also to port cities such as Karachi.

After of 30 years of war require reconstruction and development efforts are required to grow and stabilize Afghanistan's economy. The GIRoA is committed to promoting economic development, increasing production and earnings, promoting technology transfer, improving national prosperity and advancing Afghans' standard of living in partnership with international donor agencies. GIRoA recognizes that U.S. services, equipment and technology would enhance development of Afghanistan's industrial sector and lead to increased productivity and greater technical skills for Afghan citizens. International donors continue to support Afghanistan's development; however, long-term sustainable growth will take place through private sector development.

To support Afghanistan's private sector and promote reconstruction efforts, GIRoA has identified domestic priority sectors needing investment and development in both equipment and services. These priority sectors are: construction and infrastructure, logistics and transportation, mining, agribusiness, and information and communications technology providers.

The economy is beginning to move from one based on state owned enterprises and the informal economy to a more formal market economy. A notable sign of this transition for the U.S. business community is the establishment of an American Chamber of Commerce in Kabul in 2010.

Kabul is the capital of Afghanistan, situated in Kabul Province. With a total metropolitan population of 2.6 million, it is also the largest city in Afghanistan. It is the commercial center for the country, with national Afghan businesses, associations, and GIRoA ministries maintaining a presence in Kabul. Afghanistan's GDP per capita is approximately $500, and has experienced double digit growth in recent years.

The Commerce Department has supported commercial and private sector development in Afghanistan since 2002, and posted a Senior Commercial Officer in Kabul in June 2010.

Mission Goals

The goal of the mission is to provide U.S. participants with first-hand market information, access to government decision makers and one-on-one meetings with business contacts, including potential agents, distributors, and partners, so that they can position themselves to enter the Afghan market or expand their business presence in Afghanistan. Thus, the mission seeks to:

• Improve U.S. companies' understanding of commercial opportunities in Afghanistan.

• Facilitate business meetings between U.S. and Afghan businesses to promote the development of U.S. commercial opportunities in Afghanistan.

• Introduce U.S. industry to the Afghan business community and government leaders.

• Provide GIRoA policymakers with U.S. industry feedback on the direction of its commercial reforms.

Mission Scenario

The business development mission will take place in Kabul, Afghanistan. Participants will meet with Afghan leaders in the public and private sector, learn about the market by participating in Embassy briefings, and explore additional opportunities at networking receptions. Activities will include one-on-one meetings with pre-screened business prospects. (Note that the regular workweek in Afghanistan is Sunday through Thursday.)

Proposed Timetable

(The State Department will follow RSO procedure in reference to security within and around the mission event.)

Day One (weekend) | Travel Day—Depart U.S. on evening flight.
Day Two | Travel Day—Participants arrive in transit city (tbd) and overnight in pre-arranged departure from transit city.
Day Three | Travel Day.
| Arrive in Kabul, Afghanistan (afternoon).
| Evening Event.
Day Four | Security Briefing.
| Market Briefing.
| One-on-One Business Appointments.
| Reception.
Day Five | Market Briefing.
| Industry Sector Briefing.
| Meetings with Government and Industry Officials.
| One-on-One Business Appointments.
| Reception.
Day Six | One-on-One Business Appointments (optional).
| Travel Day—Depart for the U.S. (evening).
Day Seven | Travel Day—Arrive in U.S. (morning).

Participation Requirements

This business development mission is designed for a minimum of 10 qualified companies and can accommodate a maximum of 20 participants from the companies accepted. All parties interested in participating in this business development mission to Kabul, Afghanistan, must submit a completed application package [I've always wished that we would include a link to the application at this point] for consideration by the U.S. Department of Commerce. All applicants will be evaluated on their ability to meet certain conditions and to best satisfy the selection criteria as outlined below. U.S. companies already doing business in the target sectors as well as U.S. companies seeking to enter this market for the first time are encouraged to apply.

Fees and Expenses

After a company has been selected to participate in the mission, a payment to the U.S. Department of Commerce in the form of a participation fee is required. The participation fee is $4,800 for a single participant for a small- or medium-sized enterprise (SME) ¹ and $5,245 for a single participant for a large firm. Participants per company will be limited due to space constraints. The fee for each additional participant is $1,500. Applicants are encouraged to provide a clear business purpose and clarification of role of any additional participants proposed to participate in the mission.

¹ An SME is defined as a firm with 500 or fewer employees or that otherwise qualifies as a small business under SBA regulations. See http://www.sba.gov/contractingopportunities/owners/basics/whatismallbusiness/index.html. Parent companies, affiliates, and subsidiaries will be considered when determining business size. The dual pricing reflects the Commercial Service's user fee schedule that became effective May 1, 2008. See http://www.export.gov/newsletter/march2008/initiatives.html.

Interpretation services for official activities are included in the fee. Expenses for travel, lodging, meals, and incidentals will be the responsibility of each mission participant. Lodging and meals for each participant will cost approximately $150 USD per day.

Conditions for Participation

• An applicant must submit a completed and signed mission application and supplemental application materials, including information on the company's products and/or services, primary market objectives, and goals for participation. If the U.S. Department of Commerce receives an incomplete application, the Department may reject the application, request additional information, or take the lack of information into account when evaluating the application.

• Each applicant must also certify that the products and services it seeks to export through the mission are either produced in the United States, or, if not, marketed under the name of a U.S. firm and have at least fifty-one percent U.S. content.

Selection Criteria for Participation

Selection will be based on the following criteria:

• Suitability of the company's products or services to the mission goals.

• Applicant's potential for business in Afghanistan.

• Consistency of the applicant's goals and objectives with the stated scope of the mission.

(Additional factors, such as diversity of company, size, type and location, may be considered during the selection process)

Referrals from political organizations and any documents containing references to partisan political activities (including political contributions) will be removed from an applicant's submission and will not be considered during the selection process.

Timeframe For Recruitment and Applications

Mission recruitment will be conducted in an open and public manner, including posting on the U.S. Department of Commerce trade missions calendar— http://www.trade.gov/trade-missions/—and other Internet Web sites, publication in domestic trade publications and association newsletters, direct outreach to the Department's clients and distribution lists, publication in the Federal Register, and announcements at industry meetings, symposia, conferences, and trade shows.

Recruitment for the mission will begin immediately and conclude no later than January 3, 2012, by the close of business. Applications received after January 3, 2012, will be considered only if space and scheduling constraints permit.

Disclaimer, Security, and Transportation

Business development mission members participate in the mission and undertake related travel at their own risk and are advised to obtain insurance accordingly. Any question regarding insurance coverage must be resolved by the participant. The U.S. Government does not make any representations or guarantees as to the safety or security of participants. Companies should consult the State Department's travel warning for Afghanistan: http://travel.state.gov/travel/cis_pa_tw/tw/tw_2121.html, http://travel.state.gov/travel/cis_pa_tw/tw/tw_2121.html.

ITA will coordinate with the U.S. Embassy in Kabul to arrange for transportation of the mission participants to and from the airport and lodging facilities. The primary venue for the mission has security measures in place.

For More Information and an Application Packet Contact:

U.S. Commercial Service Domestic Contact:

Jessica Arnold, International Trade Specialist, U.S. Commercial Service, Washington, DC, Tel.: 202-482-2026, afghanmission2011@trade.gov.

Afghanistan Investment and Reconstruction Task Force Contact:

Ariana Marshall, International Trade Specialist, Afghanistan Investment and Reconstruction Task Force, Tel: 202-482-3754, afghanmission2011@trade.gov.

Elnora Moye,
Trade Program Assistant, Commercial Service Trade Mission Program, U.S. Department of Commerce.

[FR Doc. 2011-27302 Filed 10-20-11; 8:45 am]

BILLING CODE 3510-FP-P